DEPARTMENT OF COMMERCE

National Oceanic and Atmospheric Administration

[RTID 0648-XF078]

Atlantic Highly Migratory Species; Meeting of the Atlantic Highly Migratory Species Advisory Panel

AGENCY: National Marine Fisheries Service (NMFS), National Oceanic and Atmospheric Administration (NOAA), Commerce.

ACTION: Notice of public meeting and webinar/conference call.

SUMMARY: NMFS will hold a 2-day hybrid Atlantic Highly Migratory Species (HMS) Advisory Panel (AP) meeting in September 2025. The intent of the meeting is to consider options for the conservation and management of HMS. The meeting is open to the public.

DATES: The AP meeting and webinar will be held on Wednesday, September 3, from 9 a.m. to 5 p.m. ET and Thursday, September 4, from 9 a.m. to 3 p.m. ET.

ADDRESSES: The meeting will be held at the DoubleTree by Hilton Silver Spring Hotel, 8777 Georgia Avenue, Silver Spring, MD 20910. The meeting will also be accessible via WebEx conference call and webinar. Conference call and webinar access information are available at: https://www.fisheries.noaa.gov/event/september-2025-hms-advisory-panel-meeting.

Participants accessing the webinar are strongly encouraged to log/dial in 15 minutes prior to the meeting. NMFS will show the presentations via webinar and allow public comment during identified times on the agenda.

FOR FURTHER INFORMATION CONTACT: Peter Cooper (peter.cooper@noaa.gov) or Anna Quintrell (anna.quintrell@noaa.gov) at 301-427-8503.

SUPPLEMENTARY INFORMATION: HMS fisheries (swordfish, sharks, tunas, and billfish) are managed under the 2006 Consolidated HMS Fishery Management Plan (FMP) and its amendments pursuant to the authority of the Magnuson-Stevens Fishery Conservation and Management Act (Magnuson-Stevens Act; 16 U.S.C. 1801 et seq.) and consistent with the Atlantic Tunas Convention Act (16 U.S.C. 971 et seq.). HMS implementing regulations are at 50 CFR part 635.

The Magnuson-Stevens Act requires the establishment of APs and requires NMFS to consult with and consider the comments and views of AP members during the preparation and implementation of FMPs or FMP amendments (16 U.S.C. 1854(g)(1)(A)-(B)). NMFS meets with the HMS AP approximately twice each year to consider potential alternatives for the conservation and management of Atlantic swordfish, shark, tunas, and billfish fisheries, consistent with the Magnuson-Stevens Act.

Some of the discussion topics are:

• Atlantic bluefin tuna fishery update, including 2025 performance, 2026 quota management considerations, and potential rulemakings;

• Executive Orders 14192 and 14276 and request for input on potential deregulatory actions; and

• HMS economic situation update.

We anticipate having other NMFS offices and the U.S. Coast Guard participate to provide updates, if available, on their activities relevant to HMS fisheries. Additional information on the meeting and a copy of the draft agenda will be posted prior to the meeting (see ADDRESSES).

All members of the public will have virtual access to the meeting available via webinar and status updates of in-person public access to the meeting will be available on the NMFS website (see ADDRESSES). The meeting location is physically accessible to people with disabilities. Requests for sign language interpretation or other auxiliary aids should be directed to Peter Cooper at 301-427-8503, at least 7 days prior to the meeting.

Dated: August 13, 2025.
Kelly Denit,
Director, Office of Sustainable Fisheries, National Marine Fisheries Service.

[FR Doc. 2025-15603 Filed 8-15-25; 8:45 am]

BILLING CODE 3510-22-P